DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Title (OMB No. 0915-NEW)—[NEW]

Authorized through the Patient Navigator Outreach and Chronic Disease Prevention Act of 2005 (Pub. L. 109-18), as amended by the Patient Protection and Affordable Care Act (Pub. L. 111-148), the Patient Navigator Outreach and Chronic Disease Prevention Demonstration Program (PNDP) supports the development and operation of projects to provide patient navigator services to improve health outcomes for individuals, including individuals with cancer and other chronic diseases, and health disparities populations. Award recipients are to use grant funds to recruit, assign, train, and employ patient navigators who have direct knowledge of the communities they serve to facilitate care for those who are at risk for or who have cancer or other chronic diseases and for outreach to health disparities populations.

As authorized by the statute, a report on the outcomes of the program must be submitted to Congress. The statute requires that the Report to Congress include a quantitative analysis of baseline and benchmark measures; aggregate information about the patients served and program activities; and recommendations on whether patient navigator programs could be used to improve patient outcomes in other public health areas. The data collection instruments (see table) are intended to provide the data needed to produce the Report to Congress.

The annual estimate of burden is as follows:

Form | Number of respondents | Responses per respondent | Total responses | Hours per response | Total burden hours
Navigated Patient Data Intake Form | 4,827 | 1 | 4,827 | 0.5 | 2,413.5
VR-12 Health Status Form | 4,827 | 2 | 9,654 | .12 | 1,158.5
SubTotal-Patient Burden | 4,827 |  |  |  | 3,572
Patient Navigator Survey | 46 | 1 | 46 | 0.2 | 9.2
Patient Navigator Encounter/Target Services Log | 46 | 629.6 | 28,961.6 | 0.25 | 7,240.4
Patient Navigator Focus Group | 46 | 1 | 46 | 1 | 46
SubTotal-Patient Navigator Burden | 46 |  |  |  | 7,295.6
Patient Medical Record and Clinic Data (no personally identifiable information) | 10 | 482.7 | 4,827 | .17 | 820.6
Annual Clinic-Wide Clinical Performance Measures Report | 5 | 1 | 5 | 8 | 40
Patient Navigator Cultural Competency Checklist | 10 | 4.6 | 46 | 1.17 | 53.8
Patient Navigator/Health System Administrator Focus Group | 50 | 1 | 50 | 1 | 50
Grantee Health Care Provider Focus Group | 30 | 1 | 30 | 1 | 30
Social Service Provider Focus Group | 50 | 1 | 50 | 1 | 50
Quarterly Report | 10 | 4 | 40 | 1 | 40
SubTotal-Grantee Burden | 165 |  |  |  | 1084.4
Totals | 5,038 |  | 48,582.6 |  | 11,952
Total Average Annual Burden |  |  |  |  | 11,952

Written comments and recommendations concerning the proposed information collection should be sent within 30 days of this notice to the desk officer for HRSA, either by e-mail to OIRA_submission@omb.eop.gov or by fax to 202-395-6974. Please direct all correspondence to the “attention of the desk officer for HRSA.”

Dated: May 5, 2011.
Reva Harris,
Acting Director, Division of Policy and Information Coordination.

[FR Doc. 2011-11396 Filed 5-9-11; 8:45 am]

BILLING CODE 4165-15-P